DEPARTMENT OF COMMERCE

National Oceanic and Atmospheric Administration

Agency Information Collection Activities; Submission to the Office of Management and Budget (OMB) for Review and Approval; Comment Request; Using Quick Response Surveys To Build a Public Perception and Response Database

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 31, 2025, during a 60-day comment period. This notice allows for an additional 30 days for public comments.

Agency: National Oceanic and Atmospheric Administration, Commerce.

Title: Using Quick Response Surveys to Build a Public Perception and Response Database.

OMB Control Number: 0648-0805.

Form Number(s): None.

Type of Request: Regular (Extension and revision of a current information collection).

Number of Respondents: 33,675.

Average Hours per Response: 10 minutes.

Total Annual Burden Hours: 5,613.

Needs and Uses: This is a request for revision and extension of an approved information collection. The previously approved collection is called Phase I and the revision and extension are called Phase II.

The Phase II collection is also sponsored by the NOAA National Weather Service (NWS) Office of Science and Technology Integration (OSTI). The collection is permitted under 15 U.S.C. Ch. 111, Weather Research and Forecasting Innovation, that directs NOAA to focus on improving its understanding of how the public receives, interprets, and responds to warnings and forecasts of high impact weather events that endanger life and property. The purpose of the collection is to improve how the NWS communicates risks posed by hazardous weather or water events to the public that are most likely to result in action to mitigate the risk. Information from this collection will help the agency meet its mission to “provide weather, water and climate data, forecasts, warnings, and impact-based decision support services for the protection of life and property and enhancement of the national economy.”

Phase II will continue the work using an online survey system for collecting data on the public's perception and response to four different hazards: tornados, thunderstorm winds over 70 miles per hour (mph), flash floods, and winter weather. The online surveys provide event-based reports on hazardous weather events for National Weather Service Forecast Offices, and are building blocks for a multi-year, cross-sectional organized collection of human perception and response data. The survey system enables individual National Weather Service Weather Forecast Offices (WFOs) to disseminate Quick Response Surveys (QRS) soon after a hazardous event occurs to collect perishable data on the public's perceptions and response to the event. WFOs distribute the QRS using web links on NWS social media and core partners' social media or email lists. Surveys ask the public questions on timing, location, weather information sources, motivations and influences for taking protective action to gain insights into how NWS warning communications interact with these factors to result in protective action behaviors.

The collection is being revised to remove the longitudinal Weather and Society Survey. The agency no longer collects information using the longitudinal surveys.

Affected Public: Individuals or households.

Frequency: On occasion.

Respondent's Obligation: Voluntary.

Legal Authority: 15 U.S.C. Ch. 111, Weather Research and Forecasting Information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0805.

Sheleen Dumas,
Departmental PRA Compliance Officer, Office of the Under Secretary for Economic Affairs, Commerce Department.

[FR Doc. 2025-15489 Filed 8-13-25; 8:45 am]

BILLING CODE 3510-KE-P